SMALL BUSINESS ADMINISTRATION

[Disaster Declaration #10873]

Connecticut Disaster #CT-00007

AGENCY: U.S. Small Business Administration.

ACTION: Notice.

SUMMARY: This is a Notice of the Presidential declaration of a major disaster for Public Assistance Only for the State of Connecticut (FEMA-1700-DR), dated 5/11/2007.

Incident: Severe Storms and Flooding.

Incident Period: 4/15/2007 through 4/27/2007.

DATES: Effective Date: 5/11/2007.

Physical Loan Application Deadline Date: 7/10/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 5/11/2007, Private Non-Profit organizations that provide essential services of a governmental nature may file disaster loan applications at the address listed above or other locally announced locations.

The following areas have been determined to be adversely affected by the disaster:

Primary Counties:

Fairfield, Litchfield.

The Interest Rates are:

| Percent
Other (Including Non-Profit Organizations) With Credit Available Elsewhere | 5.250
Businesses And Non-Profit Organizations Without Credit Available Elsewhere | 4.000

The number assigned to this disaster for physical damage is 10873.

(Catalog of Federal Domestic Assistance Number 59008).

Herbert L. Mitchell,
Associate Administrator for Disaster Assistance.

[FR Doc. E7-10039 Filed 5-23-07; 8:45 am]

BILLING CODE 8025-01-P